DEPARTMENT OF AGRICULTURE

Agricultural Marketing Service

[Doc. No. AMS-SC-23-0049]

Request for Extension of a Currently Approved Information Collection

AGENCY: Agricultural Marketing Service, USDA.

ACTION: Notice and request for comments.

SUMMARY: In accordance with the Paperwork Reduction Act of 1995, this document announces the Agricultural Marketing Service's (AMS) intention to request an extension to currently approved forms used by importers of commodities that are exempt from section 8e import regulations.

DATES: Comments on this notice are due by February 12, 2024 to be assured of consideration.

ADDRESSES: Interested persons are invited to submit written comments concerning this notice. Comments must be sent to the Docket Clerk, Market Development Division, Specialty Crops Program, AMS, USDA, 1400 Independence Avenue SW, STOP 0237, Washington, DC 20250-0237; Fax: (202) 720-8938; or the internet: https://www.regulations.gov. Comments should reference the docket number and the date and page number of this issue of the Federal Register and will be available for public inspection in the Office of the Docket Clerk during regular business hours or can be viewed at: https://www.regulations.gov. All comments submitted in response to this notice will be included in the record and will be made available to the public. Please be advised that the identity of individuals or entities submitting the comments will be made public on the internet at the address provided above.

FOR FURTHER INFORMATION CONTACT: Thomas Nalepa, Marketing Specialist, Market Development Division, Specialty Crops Program, AMS, USDA, 1400 Independence Avenue SW, STOP 0237, Room 1406-S, Washington, DC 20250-0237; Telephone: (202) 720-8085; Fax: (202) 720-8938; or Email: Thomas.Nalepa@usda.gov.

Small businesses may request information on this notice by contacting Richard Lower, Market Development Division, Specialty Crops Program, AMS, USDA, 1400 Independence Avenue SW, STOP 0237, Room 1406-S, Washington, DC 20250-0237; Telephone (202) 720-8085; Fax: (202) 720-8938; or Email: Richard.Lower@usda.gov.

SUPPLEMENTARY INFORMATION:

Title: Specified Commodities Imported into the United States Exempt from Import Requirements.

OMB Number: 0581-0167.

Expiration Date of Approval: February 29, 2024.

Type of Request: Extension of a currently approved information collection.

Abstract: Section 8e (7 U.S.C. 608e) of the Agricultural Marketing Agreement Act of 1937 as amended (7 U.S.C. 601-674; Act) requires that whenever the Secretary of Agriculture issues grade, size, quality, or maturity regulations under domestic marketing orders, the same or comparable regulations must be issued for imported commodities. Import regulations apply only during those periods when domestic marketing order regulations are in effect.

The following commodities are subject to section 8e import regulations: avocados; grapefruit; kiwifruit; olives (other than Spanish-style); oranges; table grapes; Irish potatoes; onions; tomatoes; dates (other than dates for processing); raisins; pistachios; and hazelnuts (filberts). Imports of these commodities are exempt from section 8e requirements if they are imported for such outlets as processing, charity, animal feed, seed, and distribution to relief agencies.

Safeguard procedures in the form of importer and receiver reporting requirements are used to ensure that the imported commodities are, in fact, shipped to authorized, exempt outlets. Reports required under the safeguard procedure are similar to the reports currently required by most domestic marketing orders and are required of importers and receivers under the following import regulations: (1) fruits: import regulations (7 CFR part 944.350); (2) vegetables: import regulations (7 CFR part 980.501); and (3) specialty crops: import regulations (7 CFR part 999.500).

Under these regulations, importers intending to import commodities for exempt purposes must complete the form SC-6, “Importer's Exempt Commodity Form”. SC-6 is submitted to AMS through the Compliance Enforcement Management System (CEMS). CEMS is an internet-based application which allows importers and receivers of fruit, vegetable, and specialty crops to complete the form online. If an importer correctly inputs their shipment data into CEMS, they will receive and be able to print a certificate that accompanies the shipment. Data elements are simultaneously transmitted to the receiver and to AMS, where they are reviewed for compliance purposes by Market Development Division (MDD) staff. The receiver retains a copy for recordkeeping purposes.

In rare instances a paper form SC-6 may be used. The hardcopy form has four parts, which are distributed as follows: copy one is presented to the U.S. Customs and Border Protection, Department of Homeland Security; copy two is filed with MDD within two days of the commodity entering the United States; copy three accompanies the exempt shipment to its intended destination, where the receiver certifies its receipt and that it will be used for exempt purposes, and files that copy with MDD within two days of receipt; and copy four is retained by the importer.

In addition to renewing the SC-6 form, this information collection package does the same for the SC-7 form, “Civil Penalty Stipulation Agreement.” The Act authorizes the Secretary of Agriculture to assess a civil penalty of not more than $3,391 per violation against any person who violates the Section 8e regulations. Investigators complete the form identifying the violation committed by the produce importer. Produce importers sign the SC-7 form to agree to pay the sum in full settlement. There is no burden associated as only a signature is required.

The information collected through this package is used primarily by authorized representatives of the USDA, including AMS Specialty Crops Program regional and headquarters staff.

Estimate of Burden: The public reporting burden for this collection of information is estimated to average 5 minutes per response.

Respondents: Importers and receivers of exempt commodities. Estimates of respondents and responses are calculated by taking the raw annual data collected from inspections on Section 8e crops entering the U.S. market and finding the three-year averages. These numbers represent an approximation of the annual burden given the frequent changes in number of respondents and responses from year to year.

Estimated Number of Respondents: 73.

Estimated Number of Total Annual Responses: 6,892.

Estimated Number of Responses per Respondent: 337.

Estimated Total Annual Burden on Respondents: 581 hours.

Comments are invited on: (1) Whether the proposed collection of information is necessary for the proper performance of the functions of the Agency, including whether the information will have practical utility; (2) the accuracy of the Agency's estimate of the burden of the proposed collection of information, including the validity of the methodology and assumptions used; (3) ways to enhance the quality, utility and clarity of the information to be collected; and (4) ways to minimize the burden of the collection of information on those who are to respond, including through the use of appropriate automated, electronic, mechanical, or other technological collection techniques or other forms of information technology.

All comments to this document will be summarized and included in the request for OMB approval and will become a matter of public record.

Erin Morris,
Associate Administrator, Agricultural Marketing Service.

[FR Doc. 2023-27240 Filed 12-11-23; 8:45 am]

BILLING CODE P